DEPARTMENT OF COMMERCE

National Oceanic and Atmospheric Administration

RIN 0648-XD572

Availability of Report: California Eelgrass Mitigation Policy (CEMP) and Implementing Guidelines; Correction

AGENCY: National Marine Fisheries Service (NMFS), National Oceanic and Atmospheric Administration (NOAA), Commerce.

ACTION: Notice of availability; correction.

SUMMARY: This action corrects a web address provided for availability of the CEMP and Implementing Guidelines, responses to comments received on the draft CEMP, and other supporting documents in a notice that published on November 7, 2014.

FOR FURTHER INFORMATION CONTACT: Korie Schaeffer, NMFS West Coast Region, 707-575-6087.

SUPPLEMENTARY INFORMATION: NMFS developed the CEMP and Implementing Guidelines to establish and support a goal of protecting eelgrass habitat and its functions, including spatial coverage and density of eelgrass habitats. The CEMP includes NMFS' policy to recommend no net loss of eelgrass habitat function in California.

NMFS provided a web address to access the CEMP and Implementing Guidelines, responses to comments received on the draft CEMP, and other supporting documents. However, the web address provided is incorrect.

Correction

Accordingly, in the notice published on November 7, 2014 (79 FR 66360), on page 66360, second column, in the SUMMARY section, the web address is corrected to read as follows: http://www.westcoast.fisheries.noaa.gov/habitat/habitat_types/seagrass_info/seagrass_1.html.

Dated: November 10, 2014.
Sean Corson,
Acting Deputy Director Office of Habitat Conservation, National Marine Fisheries Service.

[FR Doc. 2014-27193 Filed 11-14-14; 8:45 am]

BILLING CODE 3510-22-P